DEPARTMENT OF HOMELAND SECURITY

Coast Guard

[USCG-2005-21169]

Oil Spill Response Plans: Dispersant Capabilities

AGENCY: Coast Guard, DHS.

ACTION: Notice of availability.

SUMMARY: The Coast Guard announces the availability of an Internet Web site that provides information on dispersant pre-approval requirements throughout the United States and its territories. The Web site contains information of interest to owners and operators of oil tankers and facilities required to have an oil spill response plan. The Web site, which consists of a chart and map with informational pop-ups, is available to the general public through the Coast Guard's Web site.

FOR FURTHER INFORMATION CONTACT: If you have questions regarding the dispersant pre-approval requirements or accessing the Web site, call the Office of Response, LCDR Mark Cunningham, telephone 202-267-2877.

SUPPLEMENTARY INFORMATION: Under 33 CFR 154.1045(i) and 33 CFR 155.1050(j), the owners or operators of vessels and facilities that operate in areas with year-round pre-approval for the use of dispersants may request a credit for up to 25 percent of the on-water recovery capability necessary to meet the requirements of 33 CFR parts 154 and 155. The dispersant pre-approval requirements, which are located in Regional and Area Contingency Plans, detail the specific criteria that must be met for dispersant use to occur in a given area. The criteria are determined by the Area Committee with the assistance of the Coast Guard, the Environmental Protection Agency, and the State. The Coast Guard Office of Response maintains the following Web site to aid in planning efforts concerning adequacy of dispersant capabilities: http://www.uscg.mil/vrp/maps/dispmap.shtml.

Dated: May 5, 2005.
Howard L. Hime,
Acting Director of Standards, Marine Safety, Security and Environmental Protection, U.S. Coast Guard.

[FR Doc. 05-9529 Filed 5-12-05; 8:45 am]

BILLING CODE 4910-15-P